INTERNATIONAL TRADE COMMISSION

[USITC SE-02-037]

Sunshine Act Meeting

AGENCY: International Trade Commission.

TIME AND DATE: December 19, 2002 at 2 p.m.

PLACE: Room 101, 500 E Street SW., Washington, DC 20436, Telephone: (202) 205-2000.

STATUS: Open to the public.

MATTERS TO BE CONSIDERED: 1. Agenda for future meetings: None.

2. Minutes

3. Ratification List

4. Inv. Nos. 731-TA-986-987 (Final)(Ferrovanadium from China and South Africa)—briefing and vote. (The Commission is currently scheduled to transmit its determination and Commissioners' opinions to the Secretary of Commerce on or before January 3, 2002.)

5. Outstanding action jackets: Nne.

In accordance with Commission policy, subject matter listed above, not disposed of at the scheduled meeting, may be carried over to the agenda of the following meeting.

Issued: December 2, 2002.
By order of the Commission.
Marilyn R. Abbott,
Secretary to the Commission.

[FR Doc. 02-30895 Filed 12-3-02; 10:39 am]

BILLING CODE 7020-02-P